OFFICE OF PERSONNEL MANAGEMENT

Federal Salary Council

AGENCY: Office of Personnel Management.

ACTION: Notice of meeting.

SUMMARY: The Federal Salary Council will meet at the time and location shown below. The Council is an advisory body composed of representatives of Federal employee organizations and experts in the fields of labor relations or pay policy. The Council makes recommendations to the President's Pay Agent (the Secretary of Labor and the Directors of the Office of Management and Budget and the Office of Personnel Management) about the locality pay program for General Schedule employees under section 5304 of title 5, United States Code. The Council's recommendations cover the establishment or modification of locality pay areas, the coverage of salary surveys, the process of comparing Federal and non-Federal rates of pay, and the level of comparability payments that should be paid.

At this meeting, the Council will receive a briefing on progress made in improving salary surveys conducted for the locality pay program and consider requests for new locality pay areas or proposals to change the boundaries of existing areas. The Council will meet again later this fall to formulate its recommendations for locality pay areas, methodology, and rates for 2004. The meeting is open to the public.

DATES: August 15, 2002, at 10 a.m.

Location: Office of Personnel Management, 1900 E Street NW., Room 5303 (Pendleton Room), Washington, DC.

FOR FURTHER INFORMATION CONTACT: Donald J. Winstead, Assistant Director for Compensation Administration, Office of Personnel Management, 1900 E Street NW., Room 7H31, Washington, DC 20415-8200. Phone (202) 606-2838; FAX (202) 606-0824; or email at payleave@opm.gov.

For the President's Pay Agent:
Kay Coles James,
Director.

[FR Doc. 02-19446 Filed 7-29-02; 2:52 pm]

BILLING CODE 6325-39-P